POSTAL REGULATORY COMMISSION

39 CFR Part 3050

[Docket No. RM2010-10; Order No. 482]

Periodic Reporting

AGENCY: Postal Regulatory Commission.

ACTION: Notice of proposed rulemaking; availability of rulemaking petition.

SUMMARY: The Commission is establishing a docket to consider a proposed change in certain analytical methods used in periodic reporting. This action responds to a Postal Service rulemaking petition. The proposed change has two parts. One part would reduce the sample size of a major ongoing data collection effort. The other part would divert a designated percentage of sample tests to a special study using an alternative sample frame. Establishing this docket will allow the Commission to consider the Postal Service's proposal and comments from the public.

DATES: Comments are due: August 16, 2010.

ADDRESSES: Submit comments electronically via the Commission's Filing Online system at http://www.prc.gov. Commenters who cannot submit their views electronically should contact the person identified in the For Further Information Contact section of this document for advice on alternatives to electronic filing.

FOR FURTHER INFORMATION CONTACT: Stephen L. Sharfman, General Counsel, at stephen.sharfman@prc.gov or 202-789-6820.

SUPPLEMENTARY INFORMATION: Regulatory History, 75 FR 7426 (Feb. 19, 2010).

On June 25, 2010, the Postal Service filed a petition to initiate an informal rulemaking proceeding to consider a change in the analytical methods approved for use in periodic reporting.¹ The Postal Service's proposal is in two parts. Proposal Two-A proposes to reduce the size of the sample that it uses to collect Origin-Destination Information System/Revenue Pieces and Weight (ODIS/RPW) data by 20 percent. Id. at 3. In effect, Proposal Two-A asks that the Commission's decision in Order No. 396² not to approve an identical proposal submitted by the Postal Service in June of 2009 be reconsidered.

¹ Petition of the United States Postal Service Requesting Initiation of a Proceeding to Consider Proposed Changes in Analytic Principles (Proposal Two), June 25, 2010 (Petition).

² Docket No. RM2009-5, Order Concerning Principles for Periodic Reporting (Proposal One), January 21, 2010 (Order No. 396).

The second part of Proposal Two is presented as Proposal Two-B. It proposes to divert 10 percent of the sample tests conducted under the current ODIS-RPW sample size to a special study utilizing an alternative sample frame. The alternative sample frame that the Postal Service proposes to test in Proposal Two-B would define a sample frame unit as a “delivery unit.” According to the Postal Service, delivery units would include “city and rural carriers, box sections, and firms.” Petition, Attachment Proposal Two-B, at 1.

Currently, ODIS-RPW sample frame units are Mail Exit Points (MEPs), which the Postal Service defines as a letter, flat, or parcel mail stream in a post office, station, branch or associate office. When sampling MEPs, the data collector samples Delivery Point Sequence (DPS) sorted letter trays after they arrive at the delivery unit from the processing plant and before they are dispatched to carriers. The Postal Service asserts that this interval is becoming too short to provide an adequate opportunity for the data collector to take a probabilistic sample of trays and record their contents. Another drawback of using MEPs as the sample frame unit, according to the Postal Service, is that the data collector cannot determine whether a tray is destined for a carrier, a firm hold-out, or the box unit. Since its 5-day delivery proposal does not envision delivering carrier mail on Saturday, a data collector working on Saturdays would need to be able to distinguish between trays destined for carriers from those destined for firm hold-outs and box sections. The Postal Service asserts that defining the “delivery unit as the ODIS-RPW frame and sample unit” would ameliorate both problems. Id.

The Postal Service explains that if the Commission were to approve Proposals Two-A and Two-B as a package, current total ODIS-RPW tests would be reduced by 10 percent and another 10 percent would be reallocated to study the alternative. If the Commission were to approve only Proposal Two-B, total tests would not be reduced, but 10 percent would be reallocated to studying the alternative. Petition at 1-4. If the Commission were to decline to approve either, ODIS-RPW data would continue to be collected at the current sample size.

The attachments to the Postal Service's petition explain its proposals in more detail, including their backgrounds, objectives, and rationale.

It is ordered:

1. The Petition of the United States Postal Service Requesting Initiation of a Proceeding to Consider Proposed Changes in Analytic Principles (Proposal Two), filed June 25, 2010, is granted.

2. The Commission establishes Docket No. RM2010-10 to consider the matters raised by the Postal Service's Petition.

3. Interested persons may submit comments on or before August 16, 2010.

4. Pursuant to 39 U.S.C. 505, Diane Monaco is designated to serve as the Public Representative to represent the interests of the general public in this proceeding.

5. The Secretary shall arrange for publication of this notice in the Federal Register.

By the Commission.
Shoshana M. Grove,
Secretary.

[FR Doc. 2010-16531 Filed 7-7-10; 8:45 am]

BILLING CODE 7710-FW-S